DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Surgery | November 10, 2008 | Embassy Suites—Chevy Chase.
Mental Hlth & Behav Sci-B | November 13, 2008 | DoubleTree Hotel.
Immunology | November 14, 2008 | Embassy Suites—Chevy Chase.
Hematology | November 14, 2008 | Embassy Suites—Chevy Chase.
Cardiovascular Studies | November 17, 2008 | Embassy Suites—Crystal City.
Cellular & Molecular Medicine | November 19, 2008 | * VA Central Office.
Gastroenterology | November 20, 2008 | The Westin Washington DC.
Respiration | November 21, 2008 | The Westin Washington DC.
Mental Hlth & Behav Sci-A | November 24, 2008 | St. Gregory Luxury Hotel & Suites.
Neurobiology-D | November 25, 2008 | St. Gregory Luxury Hotel & Suites.
Endocrinology-B | December 1, 2008 | St. Gregory Luxury Hotel & Suites.
Infectious Diseases-A | December 2, 2008 | Embassy Suites—Chevy Chase.
Infectious Diseases-B | December 3, 2008 | The Westin Washington DC.
Oncology | December 4-5, 2008 | DoubleTree Hotel.
Neurobiology-A | December 5, 2008 | * VA Central Office.
Nephrology | December 5, 2008 | The Westin Washington DC.
Epidemiology | December 5, 2008 | * VA Central Office.
Endocrinology-A | December 8, 2008 | The Westin Washington DC.
Neurobiology-E | December 8, 2008 | The Westin Washington DC.
Clinical Research Program | December 9, 2008 | Embassy Suites—Crystal City.
Neurobiology-C | December 11-12, 2008 | DoubleTree Hotel.
The addresses of the hotels and VA Central Office are:
DoubleTree Hotel, 1515 Rhode Island Avenue, NW., Washington, DC.
Embassy Suites—Chevy Chase Pavilion, 4300 Military Road, NW., Washington, DC.
Embassy Suites—Crystal City, 1300 Jefferson Davis Highway, Arlington, VA.
St. Gregory Hotel, 2033 M Street, NW., Washington, DC.
VA Central Office, 1722 Eye Street, NW., Washington, DC.
The Westin Washington DC City Center Hotel, 1400 M Street, NW., Washington, DC.
* Teleconference.

The purpose of the Merit Review Board is to provide advice on the scientific quality, budget, safety and mission relevance of investigator-initiated research proposals submitted for VA merit review consideration. Proposals submitted for review by the Board involve a wide range of medical specialties within the general areas of biomedical, behavioral and clinical science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C. 552b(c)(6) and (9)(B). Those who plan to attend or would like to obtain a copy of minutes of the subcommittee meetings and rosters of the members of the subcommittees should contact LeRoy G. Frey, PhD, Chief, Program Review (121F), Department of Veterans Affairs, 810 Vermont Avenue, NW., Washington, DC 20420 at (202) 461-1679.

Dated: October 20, 2008.
By direction of the Secretary.
E. Philip Riggin,
Committee Management Officer.

[FR Doc. E8-25451 Filed 10-24-08; 8:45 am]

BILLING CODE 8320-01-P